DEPARTMENT OF JUSTICE

United States Parole Commission

Public Announcement, Pursuant to the Government in the Sunshine Act (Pub. L. 94-409) [5 U.S.C. Section 552b]

AGENCY HOLDING MEETING: Department of Justice, United States Parole Commission.

TIME AND DATE: 10 a.m., Thursday, July 26, 2007.

PLACE: 5550 Friendship Blvd., Fourth Floor, Chevy Chase, MD 20815.

STATUS: Open.

MATTERS TO BE CONSIDERED: The following matters have been placed on the agenda for the open Parole Commission meeting:

1. Approval of Minutes of June 2006 Quarterly Business Meeting.

2. Approval of Minutes of April 2007 Quarterly Business Meeting.

3. Reports from the Chairman, Commissioners, Chief of Staff, and Section Administrators.

AGENCY CONTACT: Thomas W. Hutchison, Chief of Staff, United States Parole Commission, (301) 492-5990.

Dated: July 18, 2007.
Rockne Chickinell,
General Counsel, U.S. Parole Commission.

[FR Doc. 07-3599 Filed 7-19-07; 12:30 pm]

BILLING CODE 4410-31-M